DEPARTMENT OF EDUCATION

Applications for New Awards; Research Networks Focused on Critical Problems of Education Policy and Practice, and the Transformative Research in the Education Sciences Grant Programs; Reopening

AGENCY: Institute of Education Sciences, Department of Education.

ACTION: Notice.

SUMMARY: On November 20, 2020, we published in the Federal Register a notice inviting applications (NIA) for the fiscal year (FY) 2021 Research Networks Focused on Critical Problems of Education Policy and Practice and the Transformative Research in the Education Sciences Grant Programs competitions, Assistance Listing Numbers 84.305N and 84.305T. The NIA established a deadline date of February 25, 2021, for the transmittal of applications. For certain potential eligible applicants described elsewhere in this notice, we are reopening these competitions until March 11, 2021.

DATES: Deadline for Transmittal of Applications for Applicants Meeting the Eligibility Criteria in this Notice: March 11, 2021.

FOR FURTHER INFORMATION CONTACT: For the Research Networks Focused on Critical Problems of Education Policy and Practice competition (84.305N): Meredith Larson. Telephone: (202) 245-7037. Email: Meredith.Larson@ed.gov. For the Transformative Research in the Education Sciences competition (84.305T): Erin Higgins. Telephone: (202) 706-8509. Email: Erin.Higgins@ed.gov.

If you use a telecommunications device for the deaf (TDD) or a text telephone (TTY), call the Federal Relay Service (FRS), toll free, at 1-800-877-8339.

SUPPLEMENTARY INFORMATION: On November 20, 2020, we published in the Federal Register (85 FR 74328) an NIA for the FY 2021 Research Networks Focused on Critical Problems of Education Policy and Practice and the Transformative Research in the Education Sciences Grant Programs. The application deadline in the NIA was February 25, 2021. We are reopening these competitions for potential applicants that meet the eligibility criteria set out below and applicants that do not meet that eligibility criteria but have planned subawardees and contractors identified in their application that meet that criteria. The eligibility criteria are as follows:

Eligibility: The reopening of the competitions in this notice applies to eligible applicants under Research Networks Focused on Critical Problems of Education Policy and Practice and the Transformative Research in the Education Sciences Grant Programs, Assistance Listing Numbers 84.305N and 84.305T, that are located in an area for which the President has issued an emergency declaration (see www.fema.gov/disasters/), in Louisiana (FEMA Disaster designation 3556), in Oklahoma (FEMA Disaster designation 3555), and Texas (FEMA Disaster designation 3554).

The reopening of these competitions also applies to applicants that are not located in one of these areas but have planned subawardees and contractors identified in their application that are located in one of these areas.

Note: All information in the NIA for this competition remains the same, except for the deadline for the transmittal of applications for these three States.

Applicants that have already timely submitted applications under the FY 2021 Networks Focused on Critical Problems of Education Policy and Practice and the Transformative Research in the Education Sciences Grant Programs competitions may resubmit applications but are not required to do so. If a new application is not submitted, the Department will use the application that was submitted by the original deadline. If a new application is submitted, the Department will consider the application that is last submitted and timely received. Applications that did not meet the original deadline must be resubmitted to be considered for review.

Program Authority: 20 U.S.C. 9501 et seq.

Accessible Format: On request to one of the program contact persons listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Craig Stanton,
Deputy Director for Administration and Policy, Institute of Education Sciences.

[FR Doc. 2021-04284 Filed 3-1-21; 8:45 am]

BILLING CODE 4000-01-P